Proclamation 10944 of May 24, 2025

World Trade Week, 2025

By the President of the United States of America

A Proclamation

This World Trade Week, we reaffirm our commitment to balanced and reciprocal trade with the world. For far too long, globalist elites sold out the American worker and let other countries unfairly take our factories, our jobs, and our dreams. Those days are over. America will not be treated unfairly or disrespected. The United States, and the American worker, will be put first.

While seeking this office, I called for a future that protects the American worker. A future that puts American workers' dreams over corporate profits. A future that raises American wages, strengthens American industry, builds national pride, and defends this country's national interests.

My Administration is delivering that future. Since assuming office, I have taken action to provide a better life for all Americans and especially the millions of Americans left by the wayside as jobs were shipped overseas. I have enacted reciprocal tariffs to stop the hollowing out of American manufacturing and to bring vital jobs back to America. I have enacted tariffs to stop the flow of fentanyl into America, so that our citizens are not poisoned by the hands of foreign countries. And to prepare for the influx of jobs and manufacturing that is returning to America, I have prioritized initiatives for Americans to be trained for the jobs of the future, not the past. These are just a few actions among many meant to benefit the American worker. But the point is simple: The goal of my Administration is for our American workers and their children to have better lives. My Administration is taking action to achieve our goal.

For these reasons, during World Trade Week, we commit to redoubling our efforts to combat unfair trade practices for every American, from farmers and fishermen to entrepreneurs and everyone in between. We commit to bringing jobs back home and advancing opportunities for American businesses to compete abroad through new trade deals like the recent United States-United Kingdom trade agreement.

As President, I will always place the interests of America first. Together, we will build a new Golden Age for America with strong economic growth and America First trade policies that protect our workers, strengthen our industries, and unlock the American Dream for every citizen.

NOW, THEREFORE, I, DONALD J. TRUMP, President of the United States of America, by virtue of the authority vested in me by the Constitution and the laws of the United States, do hereby proclaim May 18 through May 24, 2025, as World Trade Week. Let's celebrate the benefits of American trade.

IN WITNESS WHEREOF, I have hereunto set my hand this twenty-fourth day of May, in the year of our Lord two thousand twenty-five, and of the Independence of the United States of America the two hundred and forty-ninth.

[FR Doc. 2025-09874

Filed 5-28-25; 11:15 am]

Billing code 3395-F4-P